DEPARTMENT OF THE INTERIOR

Bureau of Land Management

[OR-130-1020-PH; GP6-0123]

Notice of Public Meeting, Eastern Washington Resource Advisory Council Meeting

AGENCY: Bureau of Land Management, U. S. Department of the Interior.

ACTION: Notice of public meeting and field trip.

SUMMARY: In accordance with the Federal Land Policy and Management Act and the Federal Advisory Committee Act of 1972, the U.S. Department of the Interior, Bureau of Land Management Eastern Washington Resource Advisory Council will meet as indicated below.

DATES: The Eastern Washington Resource Advisory Council will meet in Pasco, Washington on June 2, 2006.

SUPPLEMENTARY INFORMATION: The RAC meeting will convene at 9:30 a.m. at the Columbia Basin College, Administrative Building, Room 333, 2600 North 20th Avenue, Pasco, WA. A public input time is scheduled between 10:30-11 a.m. The meeting agenda is Juniper Dunes access. The afternoon portion of the meeting will be a field tour to public lands in the Juniper Dunes area in Franklin County.

FOR FURTHER INFORMATION CONTACT: Sandra Gourdin or Kathy Helm, Bureau of Land Management, Spokane District Office, 1103 N. Fancher Road, Spokane, Washington 99212, or call (509) 536-1200.

Dated May 15, 2006
Robert B. Towne,
District Manager.

[FR Doc. E6-7632 Filed 5-18-06; 8:45 am]

BILLING CODE 4310-33-P